FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's website (www.fmc.gov) or by contacting the Office of Agreements at (202) 523-5793 or tradeanalysis@fmc.gov.

Agreement No.: 012356-001.

Title: Matson/Mell Space Charter Agreement (Pacific Islands).

Parties: Matson Navigation Company, Inc. and Mariana Express Lines Pte. Ltd.

Filing Party: David J. Tubman, Assistant General Counsel; Matson; 555 12th Street; Oakland, CA 94607.

Synopsis: The amendment updates the Agreement to reflect reciprocal space charter authority, and makes other administrative changes to the Agreement.

Agreement No.: 201250.

Title: Marine Terminal Services Agreement between Port of Houston Authority and Zim Integrated Shipping Services Ltd.

Parties: Port of Houston Authority and Zim Integrated Shipping Services Ltd.

Filing Party: Chasless Yancy; Port of Houston Authority; 111 East Loop North; Houston, TC 77029.

Synopsis: The Agreement sets forth certain discounted rates and charges applicable to Zim's container vessels calling at PHA's Barbours Cut and Bayport Container Terminals in the Port of Houston. The MTSA will commence upon filing with the Federal Maritime Commission, and the term of the MTSA is for 10 years following such filing, with an option to jointly agree upon a five-year extension.

Dated: May 14, 2018.
Rachel E. Dickon,
Secretary.

[FR Doc. 2018-10558 Filed 5-16-18; 8:45 am]

BILLING CODE 6731-AA-P